DEPARTMENT OF DEFENSE

Department of the Air Force

Names of Members of the Performance Review Board for the Department of the Air Force

ACTION: Notice.

SUMMARY: Notice is given of the names of members of the Performance Review Board for the Department of the Air Force.

DATES: Effective Date: November 4, 2013.

SUPPLEMENTARY INFORMATION: Pursuant to 5 U.S.C. 4314(c) (1-5), the Department of the Air Force (AF) announces the appointment of members to the AF's Senior Executive Service (SES) Performance Review Board (PRB). Appointments are made by the authorizing official. Each board member shall review and evaluate performance scores provided by the SES' immediate supervisor. Performance standards must be applied consistently across the AF. The board will make final recommendations to the authorizing official relative to the performance of the executive.

The members of the 2013 Performance Review Board for the U.S. Air Force are:

1. Board President—Gen Shelton, Commander, Air Force Space Command

2. Lt Gen Pawlikowski, Commander, Space & Missile Systems Center

3. Lt Gen Otto, Deputy Chief of Staff for Intelligence, Surveillance and Reconnaissance

4. Mr. Corsi, Assistant Deputy Chief of Staff for Manpower, Personnel and Services

5. Mr. Tillotson, Deputy Chief Management Officer

6. Ms. Ferguson, Acting Assistant Secretary of the Air Force for Installations, Environment and Logistics

7. Ms. Salazar, Deputy Chief, Information Dominance and Deputy Chief Information Officer

8. Mr. Hartley, Assistant Deputy Chief of Staff for Strategic Plans and Programs

9. Mr. Gill, Executive Director, Air Force Materiel Command

10. Mr. Lombardi, Deputy Assistant Secretary for Acquisition Integration

11. Ms. Watern, Deputy Assistant Secretary for Cost and Economics

12. Mr. Hale, Director, Ground Enterprise Directorate

13. Mr. Peterson, Chief Financial Officer, US Special Operations Command

Additionally, all career status Air Force Tier 3 SES members not included in the above list are eligible to serve on the 2013 Performance Review Board and are hereby nominated for inclusion on an ad hoc basis in the event of absence(s).

FOR FURTHER INFORMATION CONTACT: Please direct any written comments or requests for information to Ms. Erin Moore, Deputy Director, Senior Executive Management, AF/DPS, 1040 Air Force Pentagon, Washington, DC 20330-1040 (PH: 703-695-7677; or via email at erin.moore@pentagon.af.mil.)

Bao-Anh Trinh,
DAF, Air Force Federal Register Liaison Officer.

[FR Doc. 2013-24936 Filed 10-23-13; 8:45 am]

BILLING CODE 5001-10-P